COMMISSION ON CIVIL RIGHTS

Sunshine Act Notice

AGENCY: United States Commission on Civil Rights.

ACTION: Notice of business meeting.

DATE AND TIME: Friday, January 24, 2014; 9:30 a.m. EST.

PLACE: 1331 Pennsylvania Ave. NW., Suite 1150, Washington, DC 20425.

Meeting Agenda

I. Approval of Agenda

II. Program Planning

• Consideration of Concept Paper for 2014 Briefing

III. Management and Operations

• Staff Director's Report

IV. State Advisory Committee (SAC) Appointments

• Mississippi

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: January 13, 2014.
Marlene Sallo,
Staff Director.

[FR Doc. 2014-00817 Filed 1-14-14; 11:15 am]

BILLING CODE 6335-01-P